DEPARTMENT OF THE INTERIOR

Bureau of Land Management

[BLM_AK_FRN_MO 4500171893; AA-12255, AA-12268, AA-12269, AA-12270, AA-12285, AA-12286, AA-12287, AA-12288, AA-12289, AA-12290]

Alaska Native Claims Selection

AGENCY: Bureau of Land Management, Interior.

ACTION: Notice of decision approving lands for conveyance.

SUMMARY: The Bureau of Land Management (BLM) hereby provides constructive notice that it will issue an appealable decision approving conveyance of the surface estate in certain lands to The Aleut Corporation, an Alaska Native regional corporation, pursuant to the Alaska Native Claims Settlement Act of 1971 (ANCSA), as amended. The lands approved for conveyance lie entirely within the Izembek National Wildlife Refuge and the Alaska Peninsula Unit of the Alaska Maritime National Wildlife Refuge. As provided by ANCSA, ownership of the subsurface estate in the same lands will be retained by the United States.

DATES: Any party claiming a property interest in the lands affected by the decision may appeal the decision in accordance with the requirements of 43 CFR part 4 within the time limits set out in the SUPPLEMENTARY INFORMATION section.

ADDRESSES: You may obtain a copy of the decision from the Bureau of Land Management, Alaska State Office, 222 West Seventh Avenue, #13, Anchorage, Alaska 99513-7504.

FOR FURTHER INFORMATION CONTACT: Rolando R. Masvidal, Land Law Examiner, at BLM Alaska State Office, 907-271-4687, or rmasvidal@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: As required by 43 CFR 2650.7(d), notice is hereby given that the BLM will issue an appealable decision to The Aleut Corporation. The decision approves conveyance of the surface estate in certain lands pursuant to the Alaska Native Claims Settlement Act (43 U.S.C. 1601, et seq.), as amended. Ownership of the subsurface estate will be retained by the United States. The lands are located within the Izembek National Wildlife Refuge and the Alaska Peninsula Unit of the Alaska Maritime National Wildlife Refuge, in the following townships, and aggregate 370.44 acres: T. 60 S., R. 66 W., Seward Meridian (SM); T. 61 S., R. 66 W., SM; T. 61 S., R. 67 W., SM; T. 55 S., R. 86 W., SM; T. 56 S., R. 86 W., SM; T. 55 S., R. 87 W., SM.

The decision addresses public access easements, if any, to be reserved to the United States pursuant to Sec. 17(b) of ANCSA (43 U.S.C. 1616(b)), in the lands described above.

The BLM will also publish notice of the decision once a week for four consecutive weeks in “The Bristol Bay Times & The Dutch Harbor Fisherman” newspaper. Any party claiming a property interest in the lands affected by the decision may appeal the decision in accordance with the requirements of 43 CFR part 4 within the following time limits:

1. Unknown parties, parties unable to be located after reasonable efforts have been expended to locate, parties who fail or refuse to sign their return receipt, and parties who receive a copy of the decision by regular mail, which is not certified, return receipt requested, shall have until September 5, 2023 to file an appeal.

2. Parties receiving service of the decision by certified mail shall have 30 days from the date of receipt to file an appeal.

Parties who do not file an appeal in accordance with the requirements of 43 CFR part 4 shall be deemed to have waived their rights. Notices of appeal transmitted by facsimile will not be accepted as timely filed.

Rolando R. Masvidal,
Land Law Examiner, Adjudication Section.

[FR Doc. 2023-16525 Filed 8-2-23; 8:45 am]

BILLING CODE 4331-10-P